DEPARTMENT OF HOMELAND SECURITY

Transportation Security Administration

Extension of Agency Information Collection Activity Under OMB Review: TSA Airspace Waiver Program

AGENCY: Transportation Security Administration, DHS.

ACTION: 30 Day Notice.

SUMMARY: This notice announces that the Transportation Security Administration (TSA) has forwarded the Information Collection Request (ICR), OMB control number 1652-0033, abstracted below to the Office of Management and Budget (OMB) for review and approval of an extension of the currently approved collection under the Paperwork Reduction Act. The ICR describes the nature of the information collection and its expected burden. TSA published a Federal Register notice, with a 60-day comment period soliciting comments, of the following collection of information on June 30, 2008, 73 FR 36887. This collection of information allows TSA to conduct security threat assessments on individuals on board aircraft operating in restricted airspace pursuant to an airspace waiver. This collection will enhance aviation security and protect assets on the ground that are within the restricted airspace.

DATES: Send your comments by October 20, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Airspace Waiver Program.

Type of Request: Extension of a currently approved collection.

OMB Control Number: 1652-0033.

Forms(s): N/A.

Affected Public: Aircraft operators.

Abstract: TSA is requesting approval of this collection of information to enable it to operate its airspace waiver program. This program allows general aviation aircraft operators to request permission to fly in restricted airspace. The information collected enables TSA to perform a background check on each individual on board the aircraft seeking to fly under the waiver. The affected public consists of aircraft operators of the general aviation community.

Number of Respondents: 6,000.

Estimated Annual Burden Hours: An estimated 4,400 hours annually.

Issued in Arlington, Virginia, on September 15, 2008.
John Manning,
Acting Director, Business Management Office, Office of Information Technology.

[FR Doc. E8-21890 Filed 9-18-08; 8:45 am]

BILLING CODE 9110-05-P